DEPARTMENT OF ENERGY

Federal Energy Regulatory Commission

[Docket No. EL04-12-000, et al.]

Springerville Unit 3 Holding LLC, et al.; Electric Rate and Corporate Filings

October 28, 2003.

The following filings have been made with the Commission. The filings are listed in ascending order within each docket classification.

1. Springerville Unit 3 Holding LLC

[Docket No. EL04-12-000]

Take notice that on October 20, 2003, Springerville Unit 3 Holding LLC (Springerville), on behalf of certain grantor trusts, business trusts and/or limited liability companies of which financial institutions would be the sole beneficiaries or members, filed with the Federal Energy Regulatory Commission a petition for declaratory order disclaiming jurisdiction. Springerville states that it is seeking a disclaimer of jurisdiction in connection with a lease financing involving a Facility under development in Springerville, Arizona.

Comment Date: November 19, 2003.

2. Golden Spread Electric Cooperative, Inc.

[Docket No. EL04-13-000]

Take notice that on October 23, 2003, Golden Spread Electric Cooperative, Inc. (Golden Spread) submitted a request for continued waiver of Order Nos. 888 and 889.

Comment Date: November 13, 2003.

3. Nevada Power Company

[Docket Nos. ER03-1230-000 and ER03-1231-000]

Take notice that on October 22, 2003, Nevada Power Company (Nevada Power) submitted for filing a Notice of Withdrawal of Filings in connection with two executed Network Integration Transmission Service Agreements and related Network Operating Agreements filed on August 21, 2003.

Comment Date: November 12, 2003.

4. Ameren Services Company

[Docket No. ER03-1270-001]

Take notice that on October 22, 2003, Ameren Services Company (Ameren) submitted revisions to an unexecuted Network Integration Transmission Service Agreement and unexecuted Network Operating Agreement between Ameren and Soyland Power Cooperative, Inc. (Soyland). Ameren states that it filed the agreements on August 29, 2003 and this submission only modifies the Order No. 614 designations. Ameren seeks an effective date of September 1, 2003, the date requested in the August 29, 2003 filing. Ameren states that it has served a copy of this submission on Soyland.

Comment Date: November 12, 2003.

5. Energy Cooperative of New York, Inc.

[Docket No. ER03-1294-001]

Take notice that on October 22, 2003, Energy Cooperative of New York, Inc. (ECNY) submitted current tariff sheets to replace the company's former name Energy Cooperative of Western New York, Inc. with the correct, current name, ECNY.

Comment Date: November 12, 2003.

6. Wisconsin Electric Power Company

[Docket No. ER03-1313-001]

Take notice that on October 22, 2003, Wisconsin Electric Power Company (Wisconsin Electric) tendered for filing a Supplemental Filing to support the Revision to Exhibit B of First Revised Power Sales Agreement between Wisconsin Electric and Wisconsin Public Power, Inc. (WPPI), filed with the Commission on September 8, 2003. Wisconsin Electric states that the supplemental filing is intended to provide additional information to support the September 8, 2003 filing.

Comment Date: November 12, 2003.

7. Midwest Independent Transmission System Operator, Inc.

[Docket No. ER04-63-000]

Take notice that on October 22, 2003, the Midwest Independent Transmission System Operator, Inc. (Midwest ISO) submitted for filing a Notice of Succession of certain Transmission Service Agreements and Network Integration Transmission Service and Operating Agreements entered into by and between American Transmission Systems, Incorporated (ATSI), a subsidiary of FirstEnergy Corp. (FirstEnergy), and various transmission customers.

The Midwest ISO has requested waiver of the sixty-day effective date and has requested an effective date of October 1, 2003, the date the provision of transmission services across the transmission facilities of ATSI under the various ongoing Transmission Service Agreements and Network Integration Transmission Service and Operating Agreements commenced under the Midwest ISO OATT.

The Midwest ISO states it has served a copy of this filing upon the affected customers. Midwest ISO further states it has electronically served a copy of this filing, with attachments, upon all Midwest ISO Members, Member representatives of Transmission Owners and Non-Transmission Owners, the Midwest ISO Advisory Committee participants, as well as all state commissions within the region. Midwest ISO states that the filing has been electronically posted on the Midwest ISO's Web site at www.midwestiso.org under the heading “Filings to FERC” for other interested parties in this matter. The Midwest ISO will provide hard copies to any interested parties upon request.

Comment Date: November 12, 2003.

8. American Electric Power Service Corporation

[Docket No. ER04-64-000]

Take notice that on October 22, 2003, American Electric Power Service Corporation (AEPSC) submitted for filing unexecuted Service Agreements for ERCOT Regional Transmission Service (TSA) between AEPSC and the customers listed within the application. AEPSC also submitted for filing an executed Interconnection Agreement between AEP Texas North Company and the City of Brady, Texas.

AEPSC seeks an effective date of January 1, 2003 for the TSA's and the Interconnection Agreement. AEPSC states that they have served copies of the filing upon the TSA Customers and the Public Utility Commission of Texas.

Comment Date: November 12, 2003.

9. Entergy Services, Inc.

[Docket No. ER04-65-000]

Take notice that on October 22, 2003, Entergy Services, Inc., on behalf of Entergy Louisiana, Inc. (Entergy Louisiana), tendered for filing of a Notice of Termination of the Interconnection and Operating Agreement and Generator Imbalance Agreement between Entergy Louisiana and Vulcan Chemical.

Comment Date: November 12, 2003.

10. Wisconsin Public Service Corporation

[Docket No. ER04-67-000]

Take notice that, on October 23, 2003, Wisconsin Public Service Corporation (WPSC) tendered for filing three revised service agreements between WPSC and Washington Island Electric Cooperative (Washington Island), WPSC and Manitowoc Public Utilities (Manitowoc) and WPSC and Upper Peninsula Power Company (UPPCo) (Revised Service Agreements). The Revised Service Agreements are being filed under WPSC's FERC Electric Tariff, Fourth Revised Volume No. 1.

WPSC respectfully requests that the Commission allow the Revised Service Agreements to become effective as of January 1, 2004.

WPSC states that a copy of the filing was served upon Washington Island, Manitowoc, UPPCo, the Public Service Commission of Wisconsin, and the Michigan Public Service Commission.

Comment Date: November 13, 2003.

11. NEGT Energy Trading—Power, L.P.

[Docket No. ER04-69-000]

Take notice that on October 23, 2003, NEGT Energy Trading—Power, formerly known as PG&E Energy Trading—Power, L.P., submitted for filing a Notice of Succession, pursuant to Sections 35.16 and 131.51 of the Commission's Regulations. NEGT Energy Trading—Power, L.P. states that it changed its name from PG&E Energy Trading Power, L.P., effective on October 9, 2003.

Comment Date: November 13, 2003.

12. Golden Spread Electric Cooperative, Inc.

[Docket No. ER04-70-000]

Take notice that on October 23, 2003, Golden Spread Electric Cooperative, Inc. (Golden Spread) tendered for filing an amendment to its rate schedules for service to its member cooperatives. Golden Spread states that the filing amends Rider A to the Special Facilities Charge to the Wholesale Electric Contracts. Golden Spread requests an effective date of December 22, 2003.

Golden Spread states that a copy of this filing has been served upon all of Golden Spread's members and the appropriate state commissions.

Comment Date: November 13, 2003.

13. Golden Spread Electric Cooperative, Inc.

[Docket No. ER04-71-000]

Take notice that on October 23, 2003, Golden Spread Electric Cooperative, Inc. (Golden Spread) tendered for filing Special Facilities Agreement (Agreement) to implement charges under Rider A of Schedule B (System Service Rate) of its Rate Schedules No. 31 for service to South Plains Electric Cooperative, Inc. (South Plains). Golden Spread states that the filing, which seeks an effective date of December 22, 2003, will provide for flow through under Rider A of charges related to Golden Spread's acquisition and operation of certain electric lines and related substations used for service to South Plains.

Golden Spread states that a copy of this filing has been served upon all of Golden Spread's members and the appropriate state commissions.

Comment Date: November 13, 2003.

14. Dispersed Generating Company, LLC

[Docket No. ER04-72-000]

Take notice that on October 23, 2003, Dispersed Generating Company, LLC, pursuant to Sections 35.16 and 131.51 of the Commission's Regulations, hereby submits a Notice of Succession notifying the Commission that, effective October 9, 2003, PG&E Dispersed Generating Company, LLC changed its name to Dispersed Generating Company, LLC.

Comment Date: November 13, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's web site under the “e-Filing” link. The Commission strongly encourages electronic filings.

Magalie R. Salas,
Secretary.

[FR Doc. E3-00156 Filed 11-03-03; 8:45 am]

BILLING CODE 6717-01-P